Proclamation 7840 of November 4, 2004

National American Indian Heritage Month, 2004

By the President of the United States of America

A Proclamation

As the first people to call our country home, American Indians and Alaska Natives have a noble history in this land and have long shaped our Nation. During National American Indian Heritage Month, we celebrate our commitment to respect and preserve the rich Native American traditions and cultures.

The enduring experiences of tribal communities are a cherished part of our national story. In September, I was proud to meet with tribal leaders and celebrate the opening of the Smithsonian Institution's National Museum of the American Indian on the National Mall in Washington, D.C. This new facility stands as a powerful symbol of the pride and vitality of our Native Peoples. The museum showcases masterworks of great cultural, historical, and spiritual significance. Through exhibits documenting past and present achievements and hopes for the future, it will introduce generations of visitors to the strong and living traditions of Native Americans. As a center for scholarship and learning, the National Museum of the American Indian will also advance understanding of the diversity that makes our Nation great.

My Administration is committed to helping Native Americans as they build on their proud legacy. With the funding of my 2005 budget, we will have provided the Bureau of Indian Affairs with more than $1.1 billion for school construction and repairs during the past 4 years. To improve education for American Indian and Alaska Native children, I signed an executive order establishing an Interagency Working Group to help students meet the standards set by the No Child Left Behind Act of 2001 in a manner that is consistent with tribal traditions, languages, and cultures. By setting standards for academic achievement and cultural learning, Americans in all communities can help their children realize a brighter future. I also signed an executive memorandum to all Federal agencies affirming the Federal Government's continuing commitment to recognize tribal sovereignty and self-determination. As they have in the past, tribal governments will maintain jurisdiction over their lands, systems of self-governance, and government-to-government relationships with the United States.

NOW, THEREFORE, I, GEORGE W. BUSH, President of the United States of America, by virtue of the authority vested in me by the Constitution and laws of the United States, do hereby proclaim November 2004 as National American Indian Heritage Month. I encourage all Americans to commemorate this month with appropriate programs and activities and to learn more about the rich heritage of American Indians and Alaska Natives.

IN WITNESS WHEREOF, I have hereunto set my hand this fourth day of November, in the year of our Lord two thousand four, and of the Independence of the United States of America the two hundred and twenty-ninth.

B

[FR Doc. 04-25165

Filed 11-8-04; 9:39 am]

Billing code 3195-01-P